DEPARTMENT OF ENERGY

Federal Energy Regulatory Commission

[Docket No. RP00-136-002]

El Paso Natural Gas Company; Notice of Filing

June 15, 2000.

Take notice that on June 12, 2000, El Paso Gas Company (El Paso), tendered for filing its report detailing the fuel adjustments made to affected shippers on May 11, 2000 for the period February 1, 2000 through April 30, 2000, in accordance with the provisions of the Commission's order issued April 14, 2000 at Docket No. RP00-136-000.

Any person desiring to protest said filing should file a protest with the Federal Energy Regulatory Commission, 888 First Street, NE., Washington, DC 20426, in accordance with section 385.211 of the Commission's Rules and Regulations. All such protests must be filed on or before June 21, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-222 for assistance).

Linwood A. Watson, Jr.,
Acting Secretary.

[FR Doc. 00-15568 Filed 6-20-00; 8:45 am]

BILLING CODE 6717-01-M